DEPARTMENT OF THE INTERIOR

Fish and Wildlife Service

Notice of Meeting of the Trinity Adaptive Management Working Group

AGENCY: Fish and Wildlife Service, Interior.

ACTION: Notice of meeting.

SUMMARY: Pursuant to section 10(a)(2) of the Federal Advisory Committee Act (5 U.S.C. App. I), this notice announces a meeting of the Trinity Adaptive Management Working Group (TAMWG). The TAMWG affords stakeholders the opportunity to give policy, management, and technical input concerning Trinity River restoration efforts to the Trinity Management Council. Primary objectives of the meeting will include: 2004 budget update, TAMWG's operations and procedures, Director's report, update strategic plan and science framework, watershed restoration and other subcommittee reports, fish return report, Cableway gravel introduction project, review and recommendation of watershed and tributary restoration element for Trinity River Mainstem Fishery Restoration SEIS/EIR, and update on possible litigation settlement. The agenda items are approximate and are dependent on the amount of time each item takes. The meeting could end early if the agenda has been completed. The meeting is open to the public.

DATES: The Trinity Adaptive Management Working Group will meet from 10 a.m. to 5 p.m. on Monday, December 8, 2003.

ADDRESSES: The meeting will be held at the Weaverville Victorian Inn, 1709 Main Street, Weaverville, California 96093. The phone number is (530) 623-4432.

FOR FURTHER INFORMATION CONTACT: Dr. Mary Ellen Mueller of the U.S. Fish and Wildlife Service, California/Nevada Operations Office, 2800 Cottage Way, W-2606, Sacramento, California 95825, (916) 414-6464. Dr. Mary Ellen Mueller is the designee of the committee's Federal Official—Steve Thompson, Manager of the U.S. Fish and Wildlife Service, California/Nevada Operations Office.

SUPPLEMENTARY INFORMATION: For background information and questions regarding the Trinity River Restoration Program, please contact Douglas Schleusner, Executive Director, Trinity River Restoration Program, P.O. Box 1300, 1313 South Main Street, Weaverville, California 96093, (530) 623-1800.

Dated: October 27, 2003.
D. Kenneth McDermond,
Acting Manager, California/Nevada Operations Office, Sacramento, CA.

[FR Doc. 03-27545 Filed 10-31-03; 8:45 am]

BILLING CODE 4310-55-P